DEPARTMENT OF TRANSPORTATION

National Highway Traffic Safety Administration

[Docket No. NHTSA-2006-24707; Notice 1]

Pilkington Glass of Canada Ltd., Receipt of Petition for Decision of Inconsequential Noncompliance

Pilkington Glass of Canada Ltd. (Pilkington) has determined that certain aftermarket windshields that it manufactured in 2005 and 2006 do not comply with S6.2 and S6.3 of 49 CFR 571.205, Federal Motor Vehicle Safety Standard (FMVSS) No. 205, “Glazing Materials.” Pilkington has filed an appropriate report pursuant to 49 CFR Part 573, “Defect and Noncompliance Reports.”

Pursuant to 49 U.S.C. 30118(d) and 30120(h), Pilkington has petitioned for an exemption from the notification and remedy requirements of 49 U.S.C. Chapter 301 on the basis that this noncompliance is inconsequential to motor vehicle safety.

This notice of receipt of Pilkington's petition is published under 49 U.S.C. 30118 and 30120 and does not represent any agency decision or other exercise of judgment concerning the merits of the petition.

Affected are a total of approximately 760 aftermarket windshields number GW1549GBY manufactured between September 9, 2005 and March 31, 2006. Pilkington explains that the exact number of noncompliant windshields is unknown, but that 8.1 percent of the windshields that remain in the company's possession are noncompliant, and applying that percentage to the 9,383 windshields that have been distributed produces a result of 760. S6.2 and S6.3 of FMVSS No. 205 require that each windshield be marked with certain information including a manufacturer's model number and code. The affected windshields are marked with either an illegible model number or an illegible manufacturer's code. Pilkington has corrected the problem that caused these errors so that they will not be repeated in future production.

Pilkington believes that the noncompliance is inconsequential to motor vehicle safety and that no corrective action is warranted. The petitioner states that the windshields are clearly inscribed “Pilkington” and “Made in Canada,” which would allow a distributor or consumer to clearly identify the manufacturer. Pilkington further states that consumers do not need the illegible information to operate their vehicles safely, and “repair shops typically do not use the model number in deciding upon the size or model of the replacement glass. Instead, [they] generally use various manuals and Web sites * * * such as * * * National Auto Glass Specifications.” Pilkington also states that it is taking action to prevent additional sales of these windshields by notifying wholesalers and distributors to return windshields with the noncompliant markings. The windshields meet all other FMVSS requirements.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System website at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: June 19, 2006.

(Authority: 49 U.S.C. 30118, 30120: Delegations of authority at CFR 1.50 and 501.8)

Issued on: May 16, 2006.
Daniel C. Smith,
Associate Administrator for Enforcement.

[FR Doc. E6-7658 Filed 5-18-06; 8:45 am]

BILLING CODE 4910-59-P